DEPARTMENT OF THE INTERIOR

National Park Service

Isle Royale National Park Wilderness and Backcountry Management Plan/Environmental Impact Statement; Correction

AGENCY: National Park Service.

ACTION: Notice of availability of the draft wilderness and backcountry management plan/draft environmental impact statement, Isle Royale National Park, Michigan; correction.

SUMMARY: In the December 28, 2004, Federal Register, the National Park Service (NPS) announced the availability of the draft wilderness and backcountry management plan/draft environmental impact statement (WBMP EIS) for Isle Royale National Park. Due to technical review delays the document will not be available until October.

Correction: The draft WBMP EIS will be made available for public review for 60 days following the publishing of the notice of availability in the Federal Register by the Environmental Protection Agency. The NPS will notice the draft WBMP EIS availability in local media. The NPS will notice the Draft WBMP EIS availability and public meetings in local media and on the Planning, Environment, and Public Comment Web site at the following address: http://parkplanning.nps.gov/publicHome.cfm.

ADDRESSES: Copies of the WBMP EIS will be available on CD by request by writing to Phyllis Green, Superintendent, Attn: WBMP, Isle Royale National Park, 800 East Lakeshore Drive, Houghton, MI 49931, or by e-mail message at isro_wbmp@nps.gov. A CD-ROM of the document can be picked up at the park's headquarters at the same address, or viewed over the Internet at the park's Web site at http://www.nps.gov/isro/home.htm. Finally, the document can be found on the Internet at the NPS Planning, Environment, and Public Comment (PEPC) Web site at: http://parkplanning.nps.gov/publicHome.cfm. This Web site allows the public to review and comment directly on this document.

Dated: August 26, 2005.
David N. Given,
Acting Regional Director, Midwest Region.

[FR Doc. 05-19959 Filed 10-4-05; 8:45 am]

BILLING CODE 4312-92-P